DEPARTMENT OF DEFENSE

Office of the Secretary

[Transmittal No. 20-0I]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 20-0I.

Dated: April 19, 2023.
Aaron T. Siegel,
Alternate OSD Federal Register Liaison Officer, Department of Defense.

BILLING CODE 5001-06-P

BILLING CODE 5001-06-C

Transmittal No. 20-0I

REPORT OF ENHANCEMENT OR UPGRADE OF SENSITIVITY OF TECHNOLOGY OR CAPABILITY (SEC. 36(B)(5)(C), AECA)

(i) (U) Prospective Purchaser: Government of Qatar

(ii) (U) Sec. 36(b)(1), AECA Transmittal No.: 16-58

Date: November 17, 2016

Military Department: Air Force

(U) Description: On November 17, 2016, Congress was notified by Congressional certification transmittal number 16-58 of the possible sale under Section 36(b)(l) of the Arms Export Control Act of weapons, equipment, and support for: seventy-two (72) F-15QA aircraft, one hundred forty-four (144) F-110-GE-129 aircraft engines, eighty (80) Advanced Display Core Processor II (ADCP II), eighty (80) Digital Electronic Warfare Suites (DEWS), eighty (80) M61A “Vulcan” gun systems, eighty (80) Link-16 systems, one hundred sixty (160) Joint Helmet Mounted Cueing Systems (JHMCS), three hundred twelve (312) LAU-128 missile launchers, eighty (80) AN/APG-82(V)l Active Electronically Scanned Array (AESA) radars, one hundred sixty (160) Embedded OPS/Inertial Navigation Systems (INS) (EGI), eighty (80) AN/AAQ-13 LANTIRN navigation pods w/containers, eighty (80) AN/AAQ-33 SNIPER Advanced Targeting Pods w/containers, eighty (80) AN/AAS-42 Infrared Search and Track Systems (IRST), two hundred (200) AIM-9X Sidewinder missiles, seventy (70) AIM-9X Captive Air Training Missiles (CATM), eight (8) AIM-9X special training missiles, twenty (20) CATM AIM-9X missile guidance units, twenty (20) AIM-9X tactical guidance kits, two hundred fifty (250) AIM-120C7 Advanced Medium Range Air-to-Air Missiles (AMRAAM), five (5) AIM-120C7 spare guidance kits, one hundred (100) AGM-88 High Speed Anti-Radiation Missiles (HARM), forty (40) AGM-88 HARM CATMs, two hundred (200) AGM-154 Joint Standoff Weapons (JSOW), eighty (80) AGM-84L-1 Standoff Strike anti-ship missiles (Harpoon), ten (10) Harpoon exercise missiles, two hundred (200) AGM-65G2 (Maverick) missiles, five hundred (500) GBU-38 Joint Direct Attack Munitions (JDAM) guidance kits, five hundred (500) GBU-31(Vl) JDAM guidance kits, two hundred fifty (250) GBU-54 Laser JDAM guidance kits, two hundred fifty (250) GBU-56 Laser JDAM guidance kits, five hundred (500) BLU-117B bombs, five hundred (500) BLU-117B bombs, six (6) MK-82 Inert bombs, and one thousand (1,000) FMU-152 Joint programmable fuzes. Also included were ACMI (P5) Training Pods, Reece Pods (DB-110), Conformal Fuel Tanks (CFTs), Identification Friend/Foe (IFF) system, AN/AVS-9 Night Vision Goggles (NVG), ARC-210 UHF/UVF radios, LAU-118(v)1/A, LAU-117-AV2A, associated ground support, training materials, mission critical resources and maintenance support equipment, the procurement for various weapon support and test equipment spares, technical publications, personnel training, simulators, and other training equipment, U.S. Government and contractor engineering, technical and logistics support services; and other related elements of logistical and program support. The estimated total cost was $21.1 billion. Major Defense Equipment (MDE) constituted $11.5 billion of this total.

On January 5, 2018, Congress was notified by Congressional certification transmittal number 0C-17 for the replacement of the previously notified two hundred (200) AGM-65H/K (Maverick) missiles (MDE), with two hundred (200) AGM-65G (Maverick) missiles (MDE); the inclusion of eighty (80) AAR-57A Common Missile Warning Systems (MDE), which were included in the total value of the DEWS systems previously notified, but not enumerated as MDE in the original notification; the replacement of five hundred (500) BLU-111B bombs, five hundred (500) BLU-117B bombs, and six (6) MK-82 Inert bombs (all MDE), with five hundred (500) BLU-111B or MK-82 (500lbs) bombs, five hundred (500) BLU-117B or MK-84 (2,000lbs) bombs, and six (6) MK-82 Inert bombs (all MDE); and the inclusion of the following sub-components of JDAM and Laser JDAM guidance kits. The MDE sub-components were included in the total value previously notified, but not enumerated in the original notification:

a. Two hundred fifty (250) GBU-38 JDAMs with KMU-572 Air Foil Groups (AFG) (MDE),

b. Two hundred fifty (250) GBU-31 JDAMs with KMU-557 AFG (MDE),

c. Two hundred fifty (250) GBU-54 Laser JDAMs with KMU-572 AFG (MDE) and DSU-38 Laser Seeker, and

d. Two hundred fifty (250) GBU-56 Laser JDAMs with KMU-557 AFG (MDE) and DSU-40 Laser Seeker

The replacement or upgrading of the equipment to MDE did not result in a change to the estimated cost of MDE of $11.5 billion. The total estimated case value remained $21.1 billion.

On November 28, 2018, Congress was notified by Congressional certification transmittal number 0L-18 reported the inclusion of additional training assets as MDE to support the previously notified AGM-65 (Maverick) missiles: five (5) TGM-65 Maverick-Missile Aircrew Trainer; one (1) TGM-65 Maverick-Missile Load Trainer; and one (1) TGM-65 Maverick-Missile Maintenance Trainer. The estimated value of the additional MDE items was $3.5 million but its addition did not result in a net increase in the MDE value notified. The total estimated case value remained $21.1 billion.

This transmittal reports the inclusion of up to five hundred (500) GBU-39/B Small Diameter Bombs Increment I (SDB I) (MDE); one (1) GBU-39 A/B Focused Lethality Munition (FLM) practice bomb (MDE); one (1) GBU-39 B/B Laser SDB practice bomb (MDE); four (4) MS-110 Reconnaissance Pod Retrofit Kits (non-MDE); two (2) Transportable Ground Station Upgrades (non-MDE); one (1) Fixed Ground Station Upgrade (non-MDE); and associated spares; systems/materiel; support; and services. These additional MDE and non-MDE items are valued at $35 million in MDE and $220 million in non-MDE. However, the total estimated case value will remain $21.1 billion.

(iii) (U) Significance: This notification is being provided to report the inclusion of MDE that were not enumerated at the time of the original notification. Inclusion of these items of MDE/non-MDE results in an increase in capability over what was originally notified. This equipment will support the requested weapon system, support the capabilities of Qatar's F-15QA fleet, and contribute to interoperability with the United States.

(iv) (U) Justification: This proposed sale will support the foreign policy and national security objectives of the United States. Qatar is an important force for political stability and economic progress in the Arabian Gulf region. The procurement of SDBs, MS-110 Retrofit Kits, and associated materiel/services will significantly improve Qatar's defense capabilities to meet current and future threats and deter regional aggression.

(v) (U) Sensitivity of Technology:

1. The GBU-39/B Small Diameter Bomb Increment I (SDB I) is a 250-pound weapon designed as a small, all weather, autonomous, conventional, air-to-ground, precision glide weapon able to strike fixed and stationary re-locatable targets from standoff range. The SDB I weapon system consists of the weapons, the BRU-61/A (4- place pneumatic carriage system), shipping and handling containers for a single weapon and the BRU-61/A either empty or loaded, and a weapon planning module. It has integrated diamond-back type wings that deploy after release, which increase the glide time and therefore maximum range. The SDB I Anti-Jam Global Positioning System aided Inertial Navigation System (AJGPS/INS) provides guidance to the coordinates of a stationary target. The payload/warhead is a very effective multipurpose penetrating and blast fragmentation warhead couples with a cockpit selectable electronic fuze. Its size and accuracy allow for an effective munition with less collateral damage. A proximity sensor provides height of burst capability.

2. An MS-110 Retrofit kit converts a DB-110 into an MS-110. The MS-110 is a Non-Program of Record tactical reconnaissance pod with long range, day/night, multi-spectral sensor technology. The multi-spectral sensor lets the end user see color and better distinguish subtle features that a DB-110's dual band imagery cannot. The pod can transmit imagery via a datalink to ground-stations for near-real time analysis and exploitation. The pod is designed for carriage on fighter jets. There are no advanced technologies in the system, subsystems, equipment or technical manuals that could be exploited by a technologically-advanced adversary.

(vi) (U) Date Report Delivered to Congress: December 8, 2021

[FR Doc. 2023-08576 Filed 4-21-23; 8:45 am]

BILLING CODE 5001-06-P